DEPARTMENT OF ENERGY

Federal Energy Regulatory Commission

[Project No. 2206-030]

Progress Energy Carolinas; Notice of Meeting

On May 31, 2011, Progress Energy Carolinas (Progress Energy), licensee for the Yadkin-PeeDee Hydroelectric Project No. 2206, contacted Commission staff regarding a meeting with the National Marine Fisheries Service (NMFS) and staff to discuss what is needed to complete formal consultation for shortnose sturgeon (Acipenser brevirostrum) under section 7 of the Endangered Species Act. Accordingly, Commission staff will meet with representatives of NMFS and Progress Energy, the Commission's non-Federal representative for the Yadkin-PeeDee Project, on Wednesday, July 13, 2011. The meeting will start at 10 a.m. at NMFS' office at 263 13th Avenue South, St. Petersburg, Florida. All local, state, and Federal agencies, and interested parties, are hereby invited to attend and observe this meeting. Questions concerning the meeting should be directed to Ryan Hendren of NMFS at (727) 551-5610.

Dated: June 21, 2011.
Kimberly D. Bose,
Secretary.

[FR Doc. 2011-16176 Filed 6-27-11; 8:45 am]

BILLING CODE 6717-01-P